DEPARTMENT OF HOUSING AND URBAN DEVELOPMENT

[Docket No. FR-5484-N-32]

Notice of Proposed Information Collection: Comment Request; Construction Complaint—Request for Financial Assistance

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: December 20, 2011.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Karin Hill, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Construction Complaint—Request for Financial Assistance.

OMB Control Number, if applicable: 2502-0047.

Description of the need for the information and proposed use: The Housing Act of 1954, Section 801(a) [12 U.S.C. 1701j-1] details the requirements for eligibility of the property with respect to compliance with HUD statutory and regulatory requirements. The form HUD-92556 is submitted by homeowners and is used by HUD to provide orderly processing of homeowner complaints. This form is used in establishing a list of complaint items that the builder is responsible to correct as provided for in a warranty of completion and performance. The form is also used to list structural defects that may cause the property to be considered unsafe for habitation as described in the National Housing Act, Section 518(a) [12 U.S.C. 1735b], and for the mortgagor to request financial assistance.

Agency form numbers, if applicable: HUD-92556.

Estimation of the total numbers of hours needed to prepare the information collection including number of respondents, frequency of response, and hours of response: The number of burden hours is 5. The number of respondents is 10, the number of responses is 10, the frequency of response is on occasion, and the burden hour per response is .5.

Status of the proposed information collection: This is an extension of a currently approved collection.

Authority: The Paperwork Reduction Act of 1995, 44 U.S.C., Chapter 35, as amended.

Dated: October 17, 2011.
Ronald Y. Spraker,
Associate General Deputy Assistant Secretary for Housing-Associate Deputy Federal Housing Commissioner.

[FR Doc. 2011-27334 Filed 10-20-11; 8:45 am]

BILLING CODE 4210-67-P